DEPARTMENT OF HEALTH AND HUMAN SERVICES

Centers for Disease Control and Prevention

[30 Day-25-1360]

Agency Forms Undergoing Paperwork Reduction Act Review

In accordance with the Paperwork Reduction Act of 1995, the Centers for Disease Control and Prevention (CDC) has submitted the information collection request titled “CryptoNet Case Report Form” to the Office of Management and Budget (OMB) for review and approval. CDC previously published a “Proposed Data Collection Submitted for Public Comment and Recommendations” notice on October 21, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street, NW, Washington, DC 20503 or by fax to (202) 395-5806. Provide written comments within 30 days of notice publication.

Proposed Project

CryptoNet Case Report Form (OMB Control No. 0920-1360, Exp. 1/31/2025)—Revision—National Center for Emerging and Zoonotic Infectious Diseases (NCEZID), Centers for Disease Control and Prevention (CDC).

Background and Brief Description

The Waterborne Disease Prevention Branch (WDPB) in the Division of Foodborne, Waterborne, and Environmental Diseases (DFWED) works to prevent domestic and global water-related diseases. The WDPB is comprised of five teams, including the Domestic Waterborne Disease Epidemiology and Response (WDER) Team, which focuses on the prevention and control of waterborne-related diseases and outbreaks in the United States. One of the diseases included in the team's work is cryptosporidiosis, an acute diarrheal disease caused by infection with Cryptosporidium parasites.

The Case Surveillance Program is a subunit within the Domestic WDER Team that focus on the data collection and management activities of five waterborne diseases, including cryptosporidiosis, in the United States. The Case Surveillance Program's current scope of work includes modernizing data collection and management, enabling data connections, and improving public data access to aid public health action.

CryptoNet is the first molecular tracking system for Cryptosporidium in the United States. To meet the needs of the CryptoNet and Case Surveillance Program, and the needs of local officials, the CryptoNet case report form (CRF) was developed. The CRF includes a set of data elements that can be used to identify exposures trends in outbreak- and non-outbreak-associated Cryptosporidium cases, to generate hypotheses about the sources of infection in clusters or outbreaks, and to identify strategies to prevent and control Cryptosporidium cases, clusters, or outbreaks.

Data from the CRF will be used by federal, state, and local public health officials responsible for conducting interviews with reported cases of cryptosporidiosis in their jurisdiction in order to systemically assess core exposure elements and risk factors among cases of cryptosporidiosis. Collected data will be used by CDC staff to inform cryptosporidiosis sporadic case, cluster, and outbreak prevention and control strategies. CRF data elements and the CRF were designed for administration via telephone interviews with individuals ill with cryptosporidiosis, or their designated proxy.

CDC requests OMB approval for an estimated 125 annual burden hours. Providing information is voluntary, and there are no costs to respondents other than their time.

Estimated Annualized Burden Hours
Type of respondents | Form name | Number of respondents | Number of responses per respondent | Average burden per response (in hours)
Individuals ill with cryptosporidiosis, or their designated proxy | CryptoNet Case Report Form | 500 | 1 | 15/60

Jeffrey M. Zirger,
Lead, Information Collection Review Office, Office of Public Health Ethics and Regulations, Office of Science, Centers for Disease Control and Prevention.

[FR Doc. 2025-00162 Filed 1-7-25; 8:45 am]

BILLING CODE 4163-18-P